DEPARTMENT OF COMMERCE

National Oceanic and Atmospheric Administration

[RTID 0648-XA906]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit renewal application from the Commercial Fisheries Research Foundation contains all of the required information and warrants further consideration. This permit would facilitate research on the abundance and distribution of juvenile American lobster and Jonah crab along the northwest Atlantic coast. Regulations under the Magnuson-Stevens Fishery Conservation and Management Act and the Atlantic Coastal Fisheries Cooperative Management Act require publication of this notice to provide interested parties the opportunity to comment on applications for proposed Exempted Fishing Permits.

DATES: Comments must be received on or before April 1, 2021.

ADDRESSES: You may submit written comments by the following method:

• Email: NMFS.GAR.EFP@noaa.gov. Include in the subject line “Comments on CFRF Lobster Study Fleet EFP.” If you are unable to submit your comments via the comments email address, please contact Laura Hansen at (978) 281-9225 or email at Laura.Hansen@noaa.gov.

FOR FURTHER INFORMATION CONTACT: Laura Hansen, Fishery Management Specialist, 978-281-9225, Laura.Hansen@noaa.gov.

SUPPLEMENTARY INFORMATION: The Commercial Fisheries Research Foundation (CFRF) submitted a complete application to renew an existing Exempted Fishing Permit (EFP) on December 9, 2020, to conduct fishing activities that the regulations would otherwise restrict. The EFP would authorize 19 vessels to continue a study using ventless lobster traps to survey the abundance and distribution of juvenile American lobster and Jonah crab in regions and times of year not covered by traditional surveys. This EFP proposes to use 69 ventless lobster traps throughout Lobster Conservation Management Areas (LCMA) 1, 2, 3, 4, and 5. Maps of these areas are available at: https://www.fisheries.noaa.gov/resource/map/lobster-management-areas. The study would inform management by addressing questions of changing reproduction and recruitment dynamics of lobster, and developing a foundation of knowledge for the data poor Jonah crab fishery.

Funding for this study is through the Campbell Foundation and the Saltonstall-Kennedy Grant Program (Grant # NA17NMF4270208). For this project, CFRF is requesting exemptions from the following Federal lobster regulations:

1. Gear specification requirements in 50 CFR 697.21(c) to allow for closed escape vents and smaller trap mesh and entrance heads;

2. Trap limit requirements, as listed in § 697.19, for LCMA 1, 2, 3, 4 and 5, to be exceeded by 3 additional traps per fishing vessel for a total of 69 additional traps;

3. Trap tag requirements, as specified in § 697.19(j), to allow for the use of untagged traps (though each experimental trap will have the participating fisherman's identification attached); and

4. Possession restrictions in § 697.20(a), (d), (g), and (h)(1) and (2), to allow for onboard biological sampling of undersized, v-notched, and egg-bearing lobsters and undersized and egg-bearing Jonah crabs.

If the EFP is approved, this study would take place during the regular fishing activity of 19 federally-permitted commercial fishing vessels; 4 “inshore” vessels in LCMA 2 and 15 “offshore” vessels in LCMAs 1, 3, and 4. Four additional offshore vessels will be added to the project at a later date. Each vessel would have up to three modified traps attached to a standard Atlantic Large Whale-compliant, trap trawl. When the additional vessels are active on the EFP, no more than 69 total modified traps would be in the water at any time. The modifications to a conventional lobster trap would include a closed escape vent, single parlor, and smaller mesh size and entrance head to capture juvenile lobsters and Jonah crabs. Additional traps would be added to the participating vessels' commercial trawls so there would be no additional vertical lines as a result of this project. Sampling would occur year round with traps hauled weekly in LCMA 2 and every 10 days in the other areas. All lobsters and Jonah crabs caught in the experimental traps would be counted, sexed, and measured. Biological information, including shell hardness and presence of eggs, would also be recorded. All species captured in study traps would be returned promptly to the sea after sampling. All data collected would be made available to state and Federal management agencies to improve and enhance the available data for these two crustacean species.

If approved, the applicant may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

(Authority: 16 U.S.C. 1801 et seq.)

Dated: March 11, 2021.
Jennifer M. Wallace,
Acting Director, Office of Sustainable Fisheries, National Marine Fisheries Service.

[FR Doc. 2021-05449 Filed 3-16-21; 8:45 am]

BILLING CODE 3510-22-P